NATIONAL FOUNDATION ON THE ARTS AND HUMANITIES

Institute of Museum and Library Services; Notice: Proposed Information Collection, Submission for OMB Review, Analysis of Trends in Institute of Museum and Library Services Grants to States

SUMMARY: The Institute of Museum and Library Services announces the following information collection has been submitted to the Office of Management and Budget (OMB) for review and approval in accordance with the Paperwork Reduction Act of 1995 (Pub. L. 104-13, 44 U.S.C. Chapter 35). This program helps to ensure that requested data can be provided in the desired format, reporting burden (time and financial resources) is minimized, collection instruments are clearly understood, and the impact of collection requirements on respondents can be properly assessed.

A copy of the proposed information collection request can be obtained by contacting the individual listed below in the addressee section of this notice.

DATES: Written comments must be submitted to the office listed in the contact section below on or before April 2, 2008.

OMB is particularly interested in comments that help the agency to:

• Evaluate whether the proposed collection of information is necessary for the proper performance of the functions of the agency, including whether the information will have practical utility;

• Evaluate the accuracy of the agency's estimate of the burden of the proposed collocation of information including the validity of the methodology and assumptions used;

• Enhance the quality, utility and clarity of the information to be collected; and

• Minimize the burden of the collection of information on those who are to respond, including through the use of appropriate automated electronic, mechanical, or other technological collection techniques or other forms of information technology, e.g., permitting electronic submissions of responses.

ADDRESSES: Lesley Langa, Research Specialist, Institute of Museum and Library Services, 1800 M Street, NW., 9th Floor, Washington, DC. Ms. Langa can be reached by telephone: 202-653-4760; fax: 202-653-4600; or e-mail: llanga@imls.gov.

SUPPLEMENTARY INFORMATION: The Institute of Museum and Library Services is an independent Federal grant-making agency authorized by the Museum and Library Services Act, 20 U.S.C. 9101, et seq. Section 9108 supports IMLS' data collection and analysis role. The IMLS provides a variety of grant programs to assist the nation's museums and libraries in improving their operations and enhancing their services to the public. Museums and libraries of all sizes and types may receive support from IMLS programs.

This proposed generic clearance is essential to IMLS' ability to improve services, measure progress in achieving the goals articulated in the agency's strategic plan, understand trends in museum and library service, and in general be fully responsive to federal accountability requirements.

Abstract: The purpose of this study is to gather and analyze original data to:

(1) Better understand achievements, uses, impacts, and remaining needs for its program of annual formula-based library Grants to States from approximately 2003-2007;

(2) Relate services provided through Grants to States to all library services provided by the State Library Administrative Agencies in this period and understand the contribution of Grants to States to stimulating funding for library services;

(3) Relate these services to library services and trends in general in this period; and

(4) Better understand the function and impact of the program in the national context of library services.

Current Actions

This notice proposes clearance of the Proposed Information Collection: Analysis of Trends in Institute of Museum and Library Services Grants to States. The 60-day Notice for this proposed generic clearance was published in the Federal Register on December 19, 2007 (FR vol. 72, no. 243, pgs. 71972-71973.) No comments were received.

OMB Number: Not available.

Agency Number: 3137.

Affected Public: Libraries, State Library Administrative agencies.

Number of Respondents: 52.

Frequency: One time.

Burden Hours per Respondent: 30 minutes.

Total burden hours: 26 hours.

FOR FURTHER INFORMATION CONTACT: Comments should be sent to the Office of Information and Regulatory Affairs, Attn.: OMB Desk Officer for Education, Office of Management and Budget, Room 10235, Washington, DC 20503 (202) 395-7316.

Dated: February 25, 2008
Mamie Bittner,
Deputy Director.

[FR Doc. E8-3950 Filed 2-29-08; 8:45 am]

BILLING CODE 7036-01-P